SMALL BUSINESS ADMINISTRATION

Data Collection Available for Public Comments

ACTION: 60-Day notice and request for comments.

SUMMARY: The Small Business Administration (SBA) intends to request approval, from the Office of Management and Budget (OMB) for the new collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before July 14, 2015.

ADDRESSES: Send all comments to Delcine Montgomery, Contracting Officer Technical Representative, Office of Native American Affairs, U.S. Small Business Administration, 409 3rd Street SW., Suite 6700, Washington, DC 20416.

FOR FURTHER INFORMATION CONTACT: Delcine Montgomery, Contracting Officer Technical Representative, 202-205-6195 or delcine.montgomery@sba.gov., or Curtis B. Rich, Management Analyst, 202-205-7030, curtis.rich@sba.gov.

SUPPLEMENTARY INFORMATION: In October 2013, the SBA's Office of the Native Business Development awarded a contract to Cherokee Nation Technology Solutions, LLC (CNTS) to provide 8(a) Business Development Program training to American Indian Tribes (AITs) Alaskan Native Corporations (ANCs) and Native Hawaiian Organizations (NHOs). The primary purpose of Native American 8(a) Business Development Program Workshops Training Initiative (the Native American 8(a) BD Workshops) is to improve the Native American business owners and entrepreneur's understanding of the SBA 8(a) Business Development program's eligibility requirements and application process, business operation features for successful contract management, revenue-generating/job-creating capabilities as a tribal 8(a) certified federal contractor.

SBA plans to conduct a performance evaluation of the Native American 8(a) BD Workshops to assess the training services provided to individuals who directly and indirectly obtained the information and knowledge from the workshops, the preliminary impact of training on the business goals of direct and indirect participants, participant satisfaction with the training provider, and lessons learned and recommendations by the CNTS and the participants in the workshops. One unique feature of the implementation of the Native American 8(a) BD Workshops is that a significant number of participants were representing tribal organizations such as Leadership, Tribal Council, and Economic/Business Development. With the participation of the tribal representatives, there is a strong possibility that the knowledge learned from Native American 8(a) BD Workshops could be further disseminated by these tribal representatives to the other members/business owners of the tribes. Therefore, SBA plans to enhance and increase the data collection of performance metrics and collect survey data from participants who attended the workshops and the individuals who indirectly obtained the related knowledge from the tribal representatives. These data will facilitate the comprehensive assessment of Native American 8(a) BD workshop operations, outcomes and impacts.

Specifically, SBA proposes the use of two different instruments for data collection and analysis: (1) The Native American 8(a) Business Development Program Workshops Training Initiative Direct Participant Survey; and (2) the Native American 8(a) Business Development Program Workshops Training Initiative Indirect Participant Survey. Both of the surveys will be administered electronically and will contain both open- and close-ended questions. The types of information that will be collected in the instruments can be found in the “Summary of Information Collection” section below. Both quantitative and qualitative data analyses will be conducted. Quantitative analysis will consist of univariate and multivariate statistical techniques to summarize surveys results and explore the relationships among various data elements. The qualitative analysis will consist of identifying and interpreting themes for the open-ended survey questions. The information collected and analyzed from the survey instruments will be used to develop performance metrics, establish the achievement of the program's goals as well as providing recommendations on improving program operations.

(a) Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

(b) Summary of Information Collection

1. Native American 8(a) Business Development Program Workshops Training Initiative Direct Participant Outcome Survey

Description and Number of Respondents: The web surveys will be conducted with participants who directly attended Native American 8(a) BD Program Workshops in FY2014. The direct participant survey will be provided to a total of 422 direct participants who attended the workshops in all 31 locations during FY2014. SBA is anticipating a 25% response rate and, as a result, it's estimated that 105 direct workshop participants will complete the Native American 8(a) BD direct participant web survey.

The direct participants survey will consist of questions about the demographics of participants, their business characteristics, needs and goals, whether the workshop staff effectively assessed their business needs before conducting the training services, the types of training received, the training resources other than Native American 8(a) BD Workshops that they used, participant outcomes, impact of training, and participant satisfaction with the workshops.

Estimated Responses and Hour Burden: The total estimated number of responses to the survey will be 105 at an estimated average completion time is approximately 28 minutes. The total estimated annual hour burden is 506.22 for the Native American 8(a) BD Workshops Direct Participant Outcome Survey. It includes the hour burden (48.3 hours) to the 105 respondents for completing the web survey, receiving thank you letters after completion of the survey, the hours burden for the pretesting conducted with 8 participants, as well as multiple contacts with all 422 potential respondents, such as the announcement from directors, the survey invite, the reminder email from the directors, the reminder email from community leaders, and three reminder emails. The total annual burden also includes compiling the indirect participant list by tribal representatives who attended the workshop and the burden of sending the survey announcement letter by the tribal representatives to the indirect participants.

2. Native American 8(a) Business Development Program Workshops Training Initiative Indirect Participant Outcome Survey

Description and Number of Respondents: The web surveys will be conducted with Native American business owners and entrepreneurs who did not attend Native American 8(a) Business Development Program Workshops in FY2014, but obtained the knowledge and information related to the Native American 8(a) BD Program from the tribal representatives. SBA estimates that the sample size for indirect participants will be 275, based on 110 tribal representatives attending the workshops, the 25% response rate, and an average of 10 indirect participants per a tribal representative. The response rate for these 275 potential respondents is estimated to be 25%, resulting in the sample size of 69 completed the surveys. The indirect participant's survey will consist of questions about the demographics of participants as well as their business characteristics, needs and goals, the information they received, the business assistance resources they used, business outcomes, impact of obtained information, and their satisfaction with the obtained information.

Estimated Responses and Hour Burden: The total estimated number of responses from this survey will be 69. The estimated average completion time of a survey is approximately 25 minutes. The total estimated annual hour burden is 166.5. In addition to the hour burden (i.e. 28.98 hours) to the 69 respondents for completing the indirect participant outcome survey, this annual hour burden (i.e. 166.5 hours) also includes the burden of 275 program indirect participants reading the announcement email from tribal organization representatives, reading survey invite and four reminder emails and 69 respondents receiving thank you letters after completion of the survey.

Total Estimated Respondents for both survey instruments: 174, including 105 direct participants and 69 indirect participants.

Total Estimated Annual Hour Burden for both survey instruments: Approximately 672.72 hours.

Curtis B. Rich,
Management Analyst.

[FR Doc. 2015-11699 Filed 5-14-15; 8:45 am]

BILLING CODE 8025-01-P